Title 3—

The President

Proclamation 8086 of November 27, 2006

National Methamphetamine Awareness Day, 2006

By the President of the United States of America

A Proclamation

Methamphetamine abuse shatters families and threatens our communities. On National Methamphetamine Awareness Day, we underscore the dangers of methamphetamine and reaffirm our collective responsibility to combat all forms of drug abuse.

Methamphetamine is a powerfully addictive drug that dramatically affects users' minds and bodies. Chronic use can lead to violent behavior, paranoia, and an inability to cope with the ordinary demands of life. Methamphetamine abusers can transform homes into places of danger and despair by neglecting or endangering the lives of their children, spouses, and other loved ones. Additionally, methamphetamine production exposes anyone near the process to toxic chemicals and the risk of explosion.

My Administration is committed to fighting the spread of methamphetamine abuse throughout our country. While the number of teens who have tried this deadly drug and the number of people testing positive for methamphetamine in the workplace have decreased in recent years, methamphetamine use is still a dangerous public health problem. In the Synthetic Drug Control Strategy released earlier this year, my Administration set goals of a 15 percent decrease in methamphetamine use and 25 percent reduction in domestic methamphetamine labs over the next 3 years. To help reach these objectives, my proposed 2007 budget includes $25 million to help ensure that Americans have access to effective methamphetamine abuse recovery services and programs. Earlier this year, I also signed into law the Combat Methamphetamine Epidemic Act of 2005, which makes manufacturing the drug more difficult and imposes tougher penalties on those who smuggle or sell it.

The struggle against methamphetamine is a national, State, and local effort. To find out how to raise awareness and to learn more about the battle against methamphetamine abuse, concerned citizens may visit theantidrug.com and methresources.gov. By working together, we can build a stronger, healthier America for generations to come.

NOW, THEREFORE, I, GEORGE W. BUSH, President of the United States of America, by virtue of the authority vested in me by the Constitution and laws of the United States, do hereby proclaim November 30, 2006, as National Methamphetamine Awareness Day. I call upon the people of the United States to observe this day with appropriate programs and activities.

IN WITNESS WHEREOF, I have hereunto set my hand this twenty-seventh day of November, in the year of our Lord two thousand six, and of the Independence of the United States of America the two hundred and thirty-first.

[FR Doc. 06-9493

Filed 11-29-06; 8:45 am]

Billing code 3195-01-P